ENVIRONMENTAL PROTECTION AGENCY

[EPA-HQ-OPP-2009-0878; FRL-9364-4]

Agrobacterium radiobacter strains K84/Kerr-84 and K1026; Notice of Availability

AGENCY: Environmental Protection Agency (EPA).

ACTION: Notice.

SUMMARY: This notice announces the availability of EPA's final registration review decision for the pesticide Agrobacterium radiobacter strains K84/Kerr-84 and K1026, case 4101. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT: For pesticide specific information, contact: Ann Sibold, Biopesticides and Pollution Prevention Division (7511P), Office of Pesticide Programs, Environmental Protection Agency, 1200 Pennsylvania Ave. NW., Washington, DC 20460-0001; telephone number: (703) 305-6502; fax number: (703) 308-7026; email address: sibold.ann@epa.gov.

For general information on the registration review program, contact: Kevin Costello, Pesticide Re-evaluation Division (7508P), Office of Pesticide Programs, Environmental Protection Agency, 1200 Pennsylvania Ave. NW., Washington, DC 20460-0001; telephone number: (703) 305-5026; fax number: (703) 308-8090; email address: costello.kevin@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How can I get copies of this document and other related information?

The docket for this action, identified by docket identification (ID) number EPA-HQ-OPP-2009-0878, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

A. What action is the agency taking?

In accordance with 40 CFR 155.58(c), this notice announces the availability of EPA's final registration review decision for Agrobacterium radiobacter strains K84/Kerr-84 and K1026, case 4101. When used as a microbial pest control agent in seed, root, and stem treatments of nonbearing fruit, nut, and ornamental plants, Agrobacterium radiobacter is intended to protect treated plants from Crown Gall, which is caused by the plant pathogen, Agrobacterium tumefaciens. Both strains of Agrobacterium radiobacter control Agrobacterium tumefaciens through direct competition, which is primarily accomplished by the production of agrocin 84, a bacteriocin produced by both Agrobacterium radiobacter strain K84 and strain K1026 that is specific for certain pathogenic strains of Agrobacterium spp. Bacteriocins are peptides that are produced by certain bacteria, and are known to inhibit the growth of other bacteria.

In accordance with 40 CFR 155.57, a registration review decision is the Agency's determination whether a pesticide meets, or does not meet, the standard for registration in FIFRA. EPA has considered Agrobacterium radiobacter strains K84/Kerr-84 and K1026 in light of the FIFRA standard for registration. The Agrobacterium radiobacter strains K84/Kerr-84 and K1026 Final Decision document in the docket describes the Agency's rationale for issuing a registration review final decision for this pesticide.

In addition to the final registration review decision document, the registration review docket for Agrobacterium radiobacter strains K84/Kerr-84 and K1026 also includes other relevant documents related to the registration review of this case. The proposed registration review decision was posted to the docket and the public was invited to submit any comments or new information. During the 60-day comment period, no public comments were received.

In accordance with 40 CFR 155.58(c), the registration review case docket for Agrobacterium radiobacter strains K84/Kerr-84 and K1026 will remain open until all actions required in the final decision have been completed.

Background on the registration review program is provided at: http://www.epa.gov/oppsrrd1/registration_review. Links to earlier documents related to the registration review of this pesticide are provided at: http://www.epa.gov/oppsrrd1/registration_review/agrobacterium_radiobacter/index.html.

B. What is the Agency's authority for taking this action?

Section 3(g) of FIFRA and 40 CFR part 155, subpart C, provide authority for this action.

List of Subjects

Environmental protection, Registration review, Pesticides and pests.

Dated: September 25, 2012.
Keith A. Matthews,
Director, Biopesticides and Pollution Prevention Division, Office of Pesticide Programs.

[FR Doc. 2012-24216 Filed 10-2-12; 8:45 am]

BILLING CODE 6560-50-P